DEPARTMENT OF TRANSPORTATION

Federal Aviation Administration

14 CFR Part 39

[Docket No. FAA-2005-22614; Directorate Identifier 2005-NM-035-AD; Amendment 39-14324; AD 2005-20-27]

RIN 2120-AA64

Airworthiness Directives; Airbus Model A340-211, -212, -311, and -312 Airplanes

AGENCY: Federal Aviation Administration (FAA), Department of Transportation (DOT).

ACTION: Final rule; request for comments.

SUMMARY: The FAA is adopting a new airworthiness directive (AD) for certain Airbus Model A340-211, -212, -311, and -312 airplanes. This AD requires an initial rotating probe inspection and initial and repetitive ultrasonic inspections for discrepancies of the first fastener hole of the horizontal flange of the keel beam on previously modified airplanes, installation of new fasteners, and corrective action if necessary. This AD results from a report that certain inspections done before accomplishing the modification of the lower keel beam fitting and forward lower shell connection, revealed cracking that was outside the modification limits specified in the service bulletin; the cracking was repaired by installing a titanium doubler. We are issuing this AD to find and fix discrepancies of the fastener holes of the horizontal flange of the keel beam, which could result in reduced structural integrity of the fuselage.

DATES: This AD becomes effective October 27, 2005.

The Director of the Federal Register approved the incorporation by reference of certain publications listed in the AD as of October 27, 2005.

We must receive comments on this AD by December 12, 2005.

ADDRESSES: Use one of the following addresses to submit comments on this AD.

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on certain Airbus Model A340-211, -212, -311, and -312 airplanes. The DGAC advises that certain inspections done before accomplishing the modification specified in Airbus Service Bulletin A340-57-4036 (Airbus Modification 43577), Revision 05, dated March 14, 2000, revealed cracking that was outside the modification limits specified in that service bulletin. The cracking was repaired by installing a titanium doubler using certain repair drawings. Subsequently, a detailed structural analysis was done on the repaired airplanes. It was determined by the manufacturer that a specific inspection program is necessary for the repaired airplanes in order to maintain structural integrity. Cracking of the fastener holes of the horizontal flange of the keel beam could result in reduced structural integrity of the fuselage.

Relevant Service Information

Airbus has issued Service Bulletin A340-57-4087, dated November 21, 2003. The service bulletin describes procedures for an initial rotating probe inspection and initial and repetitive ultrasonic inspections for discrepancies (cracking, out-of-tolerance fastener holes, and fastener damage) of the first fastener hole of the horizontal flange of the keel beam. If no cracking is found during the rotating probe inspection, the service bulletin describes procedures for installation of a new fastener and determining if the fastener hole is out-of-tolerance. The corrective action for any out-of-tolerance hole includes reaming any out-of-tolerance fastener holes to oversize and installing oversized fasteners. The service bulletin also describes procedures for repetitive follow-on ultrasonic inspections for cracking, and contacting Airbus for repair instructions if cracking is found. Accomplishing the actions specified in the service information is intended to adequately address the unsafe condition. The DGAC mandated the service information and issued French airworthiness directive F-2005-007, dated January 5, 2005, to ensure the continued airworthiness of these airplanes in France.

The service bulletin also specifies to contact the manufacturer for disposition of certain repair conditions and report inspection findings to the manufacturer. The service bulletin refers to Airbus Service Bulletin A340-57-4036, Revision 05, dated March 14, 2000, as the source of service information for accomplishing Airbus Modification 43577. The modification was previously accomplished on all airplanes affected by this AD.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to find and fix discrepancies of the fastener holes of the horizontal flange of the keel beam, which could result in reduced structural integrity of the fuselage. This AD requires accomplishing the actions specified in Service Bulletin A340-57-4087, described previously, except as discussed under “Difference Between this AD, the French Airworthiness Directive, and Service Bulletin A340-57-4087.”

Difference Between This AD, the French Airworthiness Directive, and Service Bulletin A340-57-4087

The French airworthiness directive and the service bulletin specify contacting the manufacturer for disposition of certain repair conditions; this AD requires the repair of those conditions to be accomplished per a method approved by either the FAA or the DGAC (or its delegated agent). In light of the type of repair that would be required to address the identified unsafe condition, and in consonance with existing bilateral airworthiness agreements, the FAA has determined that, for this AD, a repair approved by either the FAA or the DGAC (or its delegated agent) would be acceptable for compliance with this AD.

Although the French airworthiness directive allows for use of the procedures specified in Airbus Technical Disposition F57D03012810 or 582.0651/2002 for accomplishing the first rotating probe inspection, this AD does not allow for those documents to be used. This difference has been coordinated with the DGAC.

Clarification of Compliance Time

The service bulletin and French airworthiness directive do not provide a compliance time for the initial ultrasonic inspection if no cracking is found during the rotating probe inspection; however, this AD requires that the inspection be done within 1,480 flight cycles or 7,400 flight hours after accomplishing the one-time rotating probe inspection.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, it would take between 3 and 8 work hours per airplane for the initial inspections and about 2 work hours per airplane for each repetitive inspection, at an average labor rate of $65 per work hour. Two kits would be required for installing the new fasteners after discarding the removed fasteners. Parts cost is $190 for each kit. Based on these figures, the estimated cost of the initial actions would be between $575 and $900 per airplane; and the estimated cost of the repeat inspection is estimated to be $130 per airplane, per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-22614; Directorate Identifier 2005-NM-035-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for this Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-27 Airbus: Amendment 39-14324. Docket No. FAA-2005-22614; Directorate Identifier 2005-NM-035-AD.

Effective Date

(a) This AD becomes effective October 27, 2005.

Affected ADs

(b) None.

Applicability

(c) This AD applies to Airbus Model A340-211, -212, -311, and -312 airplanes, certificated in any category, serial numbers 0006, 0007 (right-hand side only), 0008, 0013, 0020, 0024 (left-hand side only), 0027 through 0029 inclusive, 0031, 0033, 0035, 0038 through 0040 inclusive, 0043, 0047, 0049, and 0052.

Unsafe Condition

(d) This AD results from a report that certain inspections done before accomplishing the modification of the lower keel beam fitting and forward lower shell connection revealed cracking that was outside the modification limits specified in the service bulletin; the cracking was repaired by installing a titanium doubler. The FAA is issuing this AD to find and fix discrepancies of the fastener holes of the horizontal flange of the keel beam, which could result in reduced structural integrity of the fuselage.

Compliance

(e) You are responsible for having the actions required by this AD performed within the compliance times specified, unless the actions have already been done.

Note 1: Airbus Service Bulletin A340-57-4087, dated November 21, 2003, cites Airbus Service Bulletin A340-57-4036, Revision 05, dated March 14, 2000, as the source of service information for accomplishing Airbus Modification 43577.

Initial/Repetitive Nondestructive Test Inspections/Repair

(f) Within 5,420 flight cycles or 26,200 flight hours after accomplishing Airbus Modification 43577, whichever is first: Perform an initial rotating probe inspection for discrepancies of the first fastener hole of the horizontal flange of the keel beam by doing all the actions in accordance with the Accomplishment Instructions of Airbus Service Bulletin A340-57-4087, dated November 21, 2003. If no cracking is found, before further flight, inspect for correct fastener diameter tolerance; if the fastener diameter is out-of-tolerance, before further flight, ream to oversize the fastener holes and install oversize fasteners in accordance with the Accomplishment Instructions of the service bulletin.

(g) If no cracking is found during any inspection required by paragraph (f) of this AD: Within 1,480 flight cycles or 7,400 flight hours, whichever is first, after accomplishing the inspection: Perform an initial ultrasonic inspection for discrepancies of the first fastener hole of the horizontal flange of the keel beam by doing all the actions in accordance with the Accomplishment Instructions of Airbus Service Bulletin A340-57-4087, dated November 21, 2003. If no cracking is found, repeat the ultrasonic inspection thereafter at intervals not to exceed 1,480 flight cycles or 7,400 flight hours, whichever is first.

Repair Per the FAA or the Direction Générale De L'Aviation Civile (DGAC)

(h) If any cracking is found during any inspection required by this AD: Before further flight, repair per a method approved by either the Manager, International Branch, ANM-116, Transport Airplane Directorate, FAA; or the DGAC (or its delegated agent). Within 1,480 flight cycles or 7,400 flight hours, whichever is first, after repair of any cracking, perform an ultrasonic inspection as required by paragraph (g) of this AD. Repeat the ultrasonic inspection thereafter at intervals not to exceed 1,480 flight cycles or 7,400 flight hours, whichever is first.

No Reporting Required

(i) Although Airbus Service Bulletin A340-57-4087, dated November 21, 2003, specifies submitting an inspection report to the manufacturer, this AD does not include that requirement.

Alternative Methods of Compliance (AMOCs)

(j)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive F-2005-007, dated January 5, 2005, also addresses the subject of this AD.

Material Incorporated by Reference

(l) You must use Airbus Service Bulletin A340-57-4087, including Appendix 01, dated November 21, 2003, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on September 28, 2005.
Kalene C. Yanamura,
Acting Manager, Transport Airplane Directorate, Aircraft Certification Service.

[FR Doc. 05-20073 Filed 10-11-05; 8:45 am]

BILLING CODE 4910-13-P